DEPARTMENT OF THE INTERIOR

National Park Service

[NPS-WASO-NAGPRA-NPS0031606; PPWOCRADN0-PCU00RP14.R50000]

Notice of Inventory Completion: Tennessee Valley Authority, Knoxville, TN

AGENCY: National Park Service, Interior.

ACTION: Notice.

SUMMARY: The Tennessee Valley Authority (TVA) has completed an inventory of associated funerary objects in consultation with the appropriate Indian Tribes or Native Hawaiian organizations, and has determined that there is no cultural affiliation between the associated funerary objects and any present-day Indian Tribes or Native Hawaiian organizations. Representatives of any Indian Tribe or Native Hawaiian organization not identified in this notice that wish to request transfer of control of these associated funerary objects should submit a written request to the TVA. If no additional requestors come forward, transfer of control of the associated funerary objects to the Indian Tribes or Native Hawaiian organizations stated in this notice may proceed.

DATES: Representatives of any Indian Tribe or Native Hawaiian organization not identified in this notice that wish to request transfer of control of these associated funerary objects should submit a written request with information in support of the request to the TVA at the address in this notice by May 3, 2021.

ADDRESSES: Dr. Thomas O. Maher, Tennessee Valley Authority, 400 West Summit Hill Drive, WT11C, Knoxville, TN 37902-1401, telephone (865) 632-7458, email tomaher@tva.gov.

SUPPLEMENTARY INFORMATION: Notice is here given in accordance with the Native American Graves Protection and Repatriation Act (NAGPRA), 25 U.S.C. 3003, of the completion of an inventory of associated funerary objects under the control of the Tennessee Valley Authority, Knoxville, TN, and stored at the Alabama Museum of Natural History (AMNH) at the University of Alabama. The associated funerary objects were removed from the following archeological sites: 1LU5, 1LU25, 1LU59, 1LU67, and 1LU72 in Lauderdale County, and 1CT8 and 1CT17 in Colbert County, AL.

This notice is published as part of the National Park Service's administrative responsibilities under NAGPRA, 25 U.S.C. 3003(d)(3) and 43 CFR 10.11(d). The determinations in this notice are the sole responsibility of the museum, institution, or Federal agency that has control of the Native American associated funerary objects. The National Park Service is not responsible for the determinations in this notice.

Consultation

A detailed assessment of the associated funerary objects was made by TVA professional staff in consultation with representatives of the Absentee-Shawnee Tribe of Indians of Oklahoma; Alabama-Coushatta Tribe of Texas [previously listed as Alabama-Coushatta Tribes of Texas]; Alabama-Quassarte Tribal Town; Cherokee Nation; Coushatta Tribe of Louisiana; Eastern Band of Cherokee Indians; Eastern Shawnee Tribe of Oklahoma; Mississippi Band of Choctaw Indians; Poarch Band of Creeks [previously listed as Poarch Band of Creek Indians of Alabama]; The Chickasaw Nation; The Choctaw Nation of Oklahoma; The Muscogee (Creek) Nation; The Seminole Nation of Oklahoma; Thlopthlocco Tribal Town; and the United Keetoowah Band of Cherokee Indians in Oklahoma (hereafter referred to as “The Consulted Tribes”).

History and Description of the Remains

The sites listed in this notice were excavated as part of TVA's Pickwick reservoir project by AMNH, using labor and funds provided by the Works Progress Administration (WPA). Details regarding these excavations and sites may be found in An Archaeological Survey of Pickwick Basin in the Adjacent Portions of the States of Alabama, Mississippi and Tennessee, by William S. Webb and David L. DeJarnette. The associated funerary objects listed in this notice have been in the physical custody of AMNH since excavation, but they are under the control of TVA.

Human remains and other associated funerary objects from these sites were previously listed in Notices of Inventory Completion published in the Federal Register (81 FR 60377-60380, September 1, 2016; 82 FR 39904-39906, August 22, 2017; and 83 FR 65735-65738, December 21, 2018) and were transferred to The Chickasaw Nation. During a recent improvement in the curation of the TVA archeological collections at AMNH, additional associated funerary objects were found.

In February 1937, excavations took place at the Smithsonia Landing site, 1LU5, in Lauderdale County, AL. Excavation commenced after TVA acquired the land encompassing site 1LU5 on May 4, 1936. This shell midden site had been disturbed by a historic riverboat landing and associated buildings. This disturbance and rising reservoir water levels led to limited excavations revealing a Late Archaic (4000—1000 B.C.) occupation. The recently rediscovered associated funerary objects include 113 shell beads from burial 2 at this site.

From April 29, 1938, to November 8, 1940, excavations by the AMNH took place at the Perry site, 1LU25, in Lauderdale County, AL. TVA had acquired this site for the Pickwick Reservoir project on February 19, 1937. The Perry site was the largest excavation on TVA land in Alabama. The site, located on an island in the Tennessee River, was an extensive shell midden, village, and burial ground. There were two major occupations at 1LU25, the first one occurring during the terminal Middle through Late Archaic periods (4000-1000 B.C.) and the second one occurring during the Kogers Island phase of the Mississippian period (A.D. 1200-1450). The 37 recently discovered associated funerary objects include 32 animal bones, one bone pin, one piece of graphite, one chert preform, and two shell beads.

From September 22, 1936, to September 30, 1937, the Bluff Creek site, 1LU59, was excavated in Lauderdale County, AL. TVA had acquired this site for the Pickwick Reservoir project on December 23, 1936, and the excavation was conducted with Federal funds in anticipation of reservoir construction. This shell mound site, at the confluence of Bluff Creek and the Tennessee River, was an accumulation of mussel shell and village midden, rather than an intentionally constructed earthwork. Based on the material culture, this site was occupied during the Late Archaic (4000-1000 B.C.), Early Woodland (1000-100 B.C.), Middle Woodland (Copena phase, A.D. 100-500), and Late Woodland (McKelvey phase, A.D. 500-1000). Shell-tempered ceramics from the Mississippian period are found in the upper portion of this shell midden. The recently rediscovered 74 associated funerary objects include 19 animal bones, eight Baytown Plain var. McKelvey sherds, one unmodified piece of chert, four eroded grog-tempered sherds, one fire cracked rock, nine Mississippi Plain sherds, 21 Mulberry Creek Cord Marked sherds, two shell beads, three smoothed, grog-tempered sherds, one stamped, grog-tempered sherd, one Wheeler Check stamped sherd, two Wheeler punctate sherds, and two Whithers Fabric Marked sherds.

From June to September of 1936, excavations took place at the Long Branch site, 1LU67, in Lauderdale County, AL. Excavation commenced after TVA purchased three parcels of land encompassing this site on January 11, 1935, September 16, 1935, and February 8, 1936. Site 1LU67 was located immediately adjacent to the Tennessee River. Although described as a mound, this site appears to have been an accumulation of discarded shell, village midden, and alluvial soils, rather than an intentionally constructed earthwork. This shell midden extended to a depth of 11 feet below the surface. The Long Branch site had multiple occupations, including during the Middle Archaic (6000-4000 B.C.), Late Archaic (4000-1000 B.C.), Early Woodland (500-100 B.C.), Middle Woodland (100 B.C.-A.D. 500), Late Woodland (A.D. 500-1000), and Mississippian (A.D. 900-1500). It is not possible to determine from which level of occupation a burial unit originated. The 84 associated funerary objects include 27 animal bones or bone fragments, one chert flake, one Mulberry Creek Plain sherd, two projectile points, and 53 shell fragments.

From January to February 1938, excavations took place at the Union Hollow site, 1LU72, in Lauderdale County, AL. Excavation commenced after TVA purchased the land encompassing this site for the Pickwick Reservoir project on October 5, 1936. Site 1LU72 was located immediately adjacent to the Tennessee River. This shell mound was an accumulation of discarded shell, village midden, and alluvial soils, rather than an intentionally constructed earthwork. This shell midden extended to a depth of 10 feet below surface. Early flooding of the Pickwick reservoir abbreviated excavations at this site. The Union Hollow site had multiple occupations, including during the Late Archaic (4000-1000 B.C.), Early Woodland (500-100 B.C.), and Mississippian (A.D. 1200-1500). The recently found associated funerary objects include eight Mississippi Plain ceramic sherds.

From December 27, 1938, to June 27, 1939, excavations by the AMNH took place at the Little Bear Creek site, 1CT8, in Colbert County, AL. TVA had acquired this site for the Pickwick Reservoir project on August 20, 1936. This shell midden site was located at the confluence of Little Bear Creek and the Tennessee River. While no radiocarbon dates were obtained for this site, the excavated artifacts indicate that all major occupations took place during the Late Archaic (4000-1000 B.C.). Ceramics, while not abundant, were found in the upper 2-3 feet. Some of the ceramics suggest minor occupations during the Colbert (300 B.C.-A.D. 100) and McKelvey (A.D. 500-1000) phases. Distinctive shell-tempered vessels associated with some burials indicate a Mississippian Kogers Island phase occupation (A.D. 1200-1500). The 10 recently found associated funerary objects include one bone awl, one chipped stone hoe, one chipped stone drill, one Little Bear Creek PP/K, one Mulberry Creek PP/K, one unidentified PP/K, three preforms, and one White Springs PP/K.

From January 25 to February 22, 1934, associated funerary objects were removed by the AMNH from 1CT17 in Colbert County, AL. TVA had acquired this land for the Pickwick Reservoir project on June 19, 1936, and the excavation was conducted with Federal funds in anticipation of reservoir construction. This shell mound and village site was located on the left descending bank of the Tennessee River, and was an accumulation of mussel shell and village midden, rather than an intentionally constructed earthwork. There are no radiocarbon dates from this site. Projectile points from 1CT17 resemble those found in Late Archaic (4000-1000 B.C.) occupations at nearby sites. Although stratification of the ceramics recovered from the excavation is not clear, the ceramics exhibit temper and surface modifications characteristic of the Early and Middle Woodland period (300 B.C.-A.D. 500). In addition, a few shell-tempered ceramics from the Mississippian period were found in the upper portion of this shell midden. The three recently found associated funerary objects include one antler tool and two deer mandibles.

Determinations Made by the Tennessee Valley Authority

Officials of the Tennessee Valley Authority have determined that:

• Pursuant to 25 U.S.C. 3001(3)(A), the 329 objects described in this notice are reasonably believed to have been placed with or near individual human remains at the time of death or later as part of the death rite or ceremony.

• Pursuant to 25 U.S.C. 3001(2), a relationship of shared group identity cannot be reasonably traced between the associated funerary objects and any present-day Indian Tribe.

• According to final judgements of the Indian Claims Commission or the Court of Federal Claims, the land from which the associated funerary objects were removed is the aboriginal land of the Cherokee Nation; Eastern Band of Cherokee Indians; and the United Keetoowah Band of Cherokee Indians in Oklahoma.

• The Cherokee Nation; Eastern Band of Cherokee Indians; and the United Keetoowah Band of Cherokee Indians in Oklahoma have declined to accept transfer of control of these associated funerary objects.

• The Treaty of September 20, 1816, indicates that the land from which the cultural items were removed is the aboriginal land of The Chickasaw Nation.

• Pursuant to 43 CFR 10.11(c)(4), the Tennessee Valley Authority has agreed to transfer control of the associated funerary objects to The Chickasaw Nation.

Additional Requestors and Disposition

Representatives of any Indian Tribe or Native Hawaiian organization not identified in this notice that wish to request transfer of control of the associated funerary objects should submit a written request with information in support of the request to Dr. Thomas O. Maher, Tennessee Valley Authority, 400 West Summit Hill Drive, WT11C, Knoxville, TN 37902-1401, telephone (865) 632-7458, email tomaher@tva.gov, by May 3, 2021. After that date, if no additional requestors have come forward, transfer of control of the associated funerary objects to The Chickasaw Nation may proceed.

The Tennessee Valley Authority is responsible for notifying The Consulted Tribes that this notice has been published.

Dated: March 16, 2021.
Melanie O'Brien,
Manager, National NAGPRA Program.

[FR Doc. 2021-06661 Filed 3-31-21; 8:45 am]

BILLING CODE 4312-52-P